DEPARTMENT OF AGRICULTURE

Natural Resources Conservation Service

[Docket No. NRCS-2016-0010]

Notice of Proposed Changes to Section I of the Wisconsin Field Office Technical Guide

AGENCY: Natural Resources Conservation Service (NRCS).

ACTION: Notice of availability of proposed changes in the NRCS Wisconsin Field Office Technical Guides for review and comment.

SUMMARY: NRCS is proposing to revise Section I of the Wisconsin Field Office Technical Guide to include “Wisconsin Wetland Determination Methods” which will replace the existing “Wisconsin Wetland Mapping Conventions issued May 1, 1998” (commonly referred as State Wetland Mapping Conventions). The Wisconsin Wetland Determination Methods will be used as part of the technical documents and procedures to conduct wetland determinations on agriculture land as part of the Food Security Act of 1985 (as amended).

DATES: Effective Date: Effective October 18, 2016. Guidance for Wisconsin Wetland Determination Methods is in final draft status.

Comment Date: Submit comments on or before November 17, 2016. The final version of the Wisconsin Wetland Determination Methods will be adopted after the close of the 30-day period and after consideration of all comments.

ADDRESSES: Comments should be submitted, identified by Docket Number NRCS-2016-0010, using any of the following methods:

• Federal eRulemaking Portal: http://www.regulations.gov. Follow the instructions for submitting comments.

• Mail or hand-delivery: Submit state specific comments to the Wisconsin NRCS State Office, located at 8030 Excelsior Drive, Suite 200, Madison, WI 53737-2906.

• NRCS will post all comments on http://www.regulations.gov. In general, personal information provided with comments will be posted. If your comment includes your address, phone number, email, or other personal identifying information, your comments, including personal information, may be available to the public. You may ask in your comment that your personal identifying information be withheld from public view, but this cannot be guaranteed.

FOR FURTHER INFORMATION CONTACT: Jimmy Bramblett, Wisconsin State Conservationist. Phone: 608-662-4422, by email at jimmy.bramblett@wi.usda.gov.

SUPPLEMENTARY INFORMATION: Guidance for Wisconsin Wetland Determination Methods will be used as part of the technical documents and procedures to conduct wetland determinations on agricultural land as required by 16 U.S.C. 3822. NRCS is required by 16 U.S.C. 3862 to make available for public review and comment all proposed revisions to standards and procedures used to carry out highly erodible land and wetland provisions of the law.

All comments will be considered. If no comments are received, Guidance for Wisconsin Wetland Determination Methods will be considered final.

Electronic copies of the proposed Guidance for Wisconsin Wetland Determination Methods are available through http://www.regulations.gov by accessing Docket No. NRCS-2016-0010. Alternatively, copies can be downloaded or printed from the Wisconsin NRCS Web site located at: http://www.nrcs.usda.gov/wps/portal/nrcs/site/wi/home/. Requests for paper versions or inquiries may be directed to the Wisconsin State Conservationist at the contact point shown above.

Signed this 5th day of October, 2016, in Madison, WI.
Jimmy Bramblett,
State Conservationist.

[FR Doc. 2016-25047 Filed 10-17-16; 8:45 am]

BILLING CODE 3410-16-P